DEPARTMENT OF VETERANS AFFAIRS

[OMB Control No. 2900-0262]

Agency Information Collection Activity: Designation of Certifying Official(s)

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden, and it includes the actual data collection instrument.

DATES: Comments and recommendations for the proposed information collection should be sent within 30 days of publication of this notice by clicking on the following link www.reginfo.gov/public/do/PRAMain, select “Currently under Review—Open for Public Comments”, then search the list for the information collection by Title or “OMB Control No. 2900-0262.”

FOR FURTHER INFORMATION CONTACT:

VA PRA information: Maribel Aponte, 202-461-8900, vacopaperworkreduact@va.gov.

SUPPLEMENTARY INFORMATION:

Title: Designation of Certifying Official(s), VA Form 22-8794.

OMB Control Number: 2900-0262 https://www.reginfo.gov/public/do/PRASearch.

Type of Review: Revision of a currently approved collection.

Abstract: The law requires educational institutions and job training establishments to designate an official that will be responsible for certifying approved training for Veterans and other eligible persons. Each educational institution must have a VA certifying official on staff. The certifying official must submit to VA each student's enrollment information and any changes to such enrollment information. The “Designation of Certifying Official(s)” (VA Form 22-8794) provides VA with the names and signatures of those persons authorized to certify and submit to VA any new hours or changes in the enrollment of their VA students. The VA uses VA Form 22-8794 to maintain a record of the VA Certifying Official(s) responsible for certifying approved training for Veterans and other eligible beneficiaries.

An agency may not conduct or sponsor, and a person is not required to respond to a collection of information unless it displays a currently valid OMB control number. The Federal Register Notice with a 60-day comment period soliciting comments on this collection of information was published at 89 FR 41494, May 13, 2024.

Affected Public: Individuals and Households.

Estimated Annual Burden: 1,029 hours.

Estimated Average Burden Time per Respondent: 10 minutes.

Frequency of Response: Once on occasion.

Estimated Number of Respondents: 6,177.

Authority: 44 U.S.C. 3501 et seq.

Maribel Aponte,
VA PRA Clearance Officer, Office of Enterprise and Integration, Data Governance Analytics, Department of Veterans Affairs.

[FR Doc. 2024-15617 Filed 7-15-24; 8:45 am]

BILLING CODE 8320-01-P